DEPARTMENT OF COMMERCE

International Trade Administration

Initiation of Antidumping and Countervailing Duty Administrative Reviews

AGENCY: Import Administration, International Trade Administration, Department of Commerce.

ACTION: Notice of Initiation of Antidumping and Countervailing Duty Administrative Reviews.

SUMMARY: The Department of Commerce has received requests to conduct administrative reviews of various antidumping and countervailing duty orders and findings with April anniversary dates. In accordance with the Department's regulations, we are initiating those administrative reviews.

EFFECTIVE DATE: June 2, 2000.

FOR FURTHER INFORMATION CONTACT: Holly A. Kuga, Office of AD/CVD Enforcement, Import Administration, International Trade Administration, U.S. Department of Commerce, 14th Street and Constitution Avenue, NW, Washington, DC 20230, telephone: (202) 482-4737.

SUPPLEMENTARY INFORMATION:

Background

The Department has received timely requests, in accordance with 19 CFR 351.213(b) (1999), for administrative reviews of various antidumping and countervailing duty orders and findings with April anniversary dates.

Initiation of Reviews

In accordance with section 19 CFR 351.221(c)(1)(i), we are initiating administrative reviews of the following antidumping and countervailing duty orders and findings. We intend to issue the final results of these reviews not later than April 30, 2001.

| Period to be reviewed
Antidumping Duty Proceedings
France: Sorbitol, A-427-001 | 4/1/99-3/31/00
Amylum France
Amylum SPI Europe
Greece: Electrolytic Manganese Dioxide, A-484-801 | 4/1/99-12/31/99
Tosoh Hellas A.I.C.
Japan: Electrolytic Manganese Dioxide, A-588-806 | 4/1/99-12/31/99
Tosoh Corporation
Taiwan: Static Random Access Memory Semiconductors, A-583-827 | 4/1/99-3/31/00
Integrated Silicon Solution, Inc./Integrated Silicon Solution (Taiwan), Inc.
Galvantech, Inc., G-Link Technology Corporation, GSI Technology, Winbond Electronics Corporation
The People's Republic of China: Brake Rotors * A-570-846 | 4/1/99-3/31/00
China National Automotive Industry Import & Export Co. (only as to merchandise produced by a firm other than Shandong Laizhou CAPCO Industry)
Shandong Laizhou CAPCO Industry (only as to merchandise produced by a firm other than Shandong Laizhou CAPCO Industry)
Shenyang Honbase Machinery Co., Ltd. (only as to merchandise produced by a firm other than either Shenyang Honbase Machinery Co., Ltd. or Laizhou Luyuan Automobile Fitting Co., Ltd.)
Laizhou Luyuan Automobile Fitting Co., Ltd. (only as to merchandise produced by a firm other than either Shenyang Honbase Machinery Co., Ltd. or Laizhou Luyuan Automobile Fitting Co., Ltd.)
China National Machinery and Equipment Import & Export (Xinjiang) Corporation, Ltd. (only as to merchandise produced by a firm other than Zibo Botai Manufacturing Co., Ltd.)
The People's Republic of China: Coumarin * A-570-830 | 2/1/99-1/31/00
Netchem, Inc.
Turkey: Certain Steel Concrete Reinforcing Bars A-489-807 | 4/1/99-3/31/00
Ekinciler Holding, A.S./Ekinciler Demir Celik A.S.
Colakoglu Metalurji A.S./Colakoglu Dis Ticaret
Icdas Celik Enerji Tersane ve Ulasim Sanayi, A.S
Countervailing Duty Proceedings
None.
Suspension Agreements
None.
* If one of the named companies does not qualify for a separate rate, all other exporters of brake rotors from the People's Republic of China who have not qualified for a separate rate are deemed to be covered by this review as part of the single PRC entity of which the named exporters are a part.
* If one of the named companies does not qualify for a separate rate, all other exporters of coumarin from the People's Republic of China who have not qualified for a separate rate are deemed to be covered by this review as part of the single PRC entity of which the named exporters are a part.

During any administrative review covering all or part of a period falling between the first and second or third and fourth anniversary of the publication of an antidumping duty order under section 351.211 or a determination under section 351.218(f)(4) to continue an order or suspended investigation (after sunset review), the Secretary, if requested by a domestic interested party within 30 days of the date of publication of the notice of initiation of the review, will determine whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 USC 1675(a)), and 19 CFR 351.221(c)(1)(i).

Dated: May 26, 2000.
Holly A. Kuga,
Acting Deputy Assistant Secretary, Group II for Import Administration.

[FR Doc. 00-13883 Filed 6-1-00; 8:45 am]

BILLING CODE 3510-DS-P